DEPARTMENT OF THE INTERIOR

Geological Survey

Technology Transfer Act of 1986; Cooperative Research and Development Agreement With Rio Algom Exploration

AGENCY: Geological Survey, Interior.

ACTION: Notice of proposed cooperative research and development agreement (CRADA) negotiations.

SUMMARY: The U.S. Geological Survey (USGS) is contemplating entering into a Cooperative Research and Development Agreement (CRADA) with Rio Algom Exploration to conduct aerial surveys in Alaska.

INQUIRIES: If any other parties are interested in studying other areas with the USGS, please contact: Fredric Wilson, USGS-Alaska Section, 4200 University Dr., Anchorage, AK 99508-4667.

SUPPLEMENTARY INFORMATION: This notice is to meet the USGS requirement stipulated in the Survey Manual.

Dated: May 23, 2000.
Linda C. Gundersen,
Associate Chief Geologist for Program Operations.

[FR Doc. 00-15995 Filed 6-23-00; 8:45 am]

BILLING CODE 4310-Y7-M